DEPARTMENT OF AGRICULTURE

Rural Utilities Service

Basin Electric Power Cooperative: South Dakota PrairieWinds Project

AGENCY: Rural Utilities Service, USDA.

ACTION: Notice of Availability of Record of Decision.

SUMMARY: The Rural Utilities Service, hereinafter referred to as RUS and/or the Agency, has issued a Record of Decision (ROD) for the Environmental Impact Statement (EIS) for the proposed South Dakota PrairieWind Project (Project) in Aurora, Bule and Jerauld Counties, South Dakota. The Administrator of RUS has signed the ROD, which is effective upon signing. The EIS was prepared pursuant to the National Environmental Policy Act of 1969 (NEPA) (U.S.C. 4231 et seq.) and in accordance with the Council on Environmental Quality's (CEQ) regulations for implementing the procedural provisions of NEPA (40 CFR Parts 1500-1508), RUS's NEPA implementing regulations (7 CFR Part 1794), and the Western Area Power Administration's (Western) NEPA implementing regulations (10 CFR Part 1021). RUS and Western are serving as co-lead agencies in preparation of the EIS as defined at 40 CFR 1501.5. Each agency is issuing a separate ROD for the project. The purpose of the EIS was to evaluate the potential environmental impacts of and alternatives to Basin Electric Power Cooperative's (Basin Electric) application for a RUS loan and a Western interconnection agreement to construct the proposed Project. The proposed Project's facility would include a new 151.5-megawatt wind-powered generation facility.

ADDRESSES: To obtain copies of the ROD, or for further information, contact: Mr. Dennis Rankin, Environmental Protection Specialist, USDA, Rural Utilities Service, 1400 Independence Avenue, SW., Stop 1571, Room 2239-S, Washington, DC 20250-1571, telephone: (202) 720-1453, fax: (202) 690-0649, or e-mail: dennis.rankin@wdc.usda.gov. A copy of the ROD can be viewed online at: http://www.usda.gov/rus/water/ees/eis.htm.

SUPPLEMENTARY INFORMATION: Basin Electric's proposed Project is to construct, own, operate, and maintain the Project. The proposed Project includes a 151.5-megawatt (MW) nameplate capacity wind-powered energy generation facility that would feature 101 wind turbine generators; 6,000-square-foot operations and maintenance building and fence perimeter; 64 miles of underground communication system and electrical collector lines (within the same trench); 34.5-kilovolt (kV) to 230-kV collector substation and microwave tower; 11-mile-long overhead 230-kV transmission line; temporary equipment/material storage or lay-down areas; temporary crane walks; and 81 miles of new and/or upgraded service roads to access the facilities in Aurora, Brule and Jerauld Counties in eastern South Dakota. The purpose for the proposed Project is to meet Basin Electric's load growth responsibilities, State mandated Renewable Portfolio Standards and Renewable Energy Objectives and renewable energy goals. In accordance with NEPA, the CEQ regulations for implementing the procedural provisions of NEPA, and applicable agency NEPA implementing regulations, RUS and Western prepared an EIS to assess the potential environmental impacts associated with the proposed Project. The decision being documented in RUS's ROD is that the Agency agrees to consider, subject to loan approval, funding the proposed Project at the Crow Lake location. More details regarding RUS's regulatory authority, rationale for the decision, and compliance with applicable regulations are included in the ROD. Because two distinct federal actions are being proposed, RUS and Western decided to issue separate RODs.

On April 7, 2009, RUS and Western published in the Federal Register a Notice of Intent to prepare an EIS for the proposed Project. The U.S. Environmental Protection Agency acknowledged receipt of the Draft EIS on January 15, 2010. The 45-day comment period ended on March 1, 2010. A public hearing to receive comments on the Draft EIS was held in Chamberlain, South Dakota, on February 11, 2010. All comments received were addressed in the Final EIS, The U.S. Environmental Protection Agency acknowledged receipt of the Final EIS on July 30, 2010. The 30-day review period ended on August 28, 2010. Two comment letters were received; they were addressed in RUS's ROD.

After considering various ways to meet its purpose and need, Basin Electric identified construction of the proposed Project as its best course of action. This EIS considered four alternative methods to provide renewable energy and six alternative site locations. These alternatives were evaluated in terms of cost-effectiveness, technical feasibility, and environmental factors (e.g., soils, topography and geology, water resources, air quality, biological resources, the acoustic environment, recreation, cultural and historic resources, visual resources, transportation, farmland, land use, human health and safety, the socioeconomic environment, environmental justice, and cumulative effects).

The EIS analyzes in detail the No Action Alternative and the Action Alternative (construction of the Project) at two separate locations: The Crow Lake site (approximately 36,000 acres 15 miles north of the City of White Lake within Brule, Aurora and Jerald Counties, South Dakota), and the Winner site (approximately 83,000 acres eight miles south of the City of Winner in Tripp County, South Dakota). The No Action Alternative would not meet the state's and Basin Electric's renewable energy goals. The resources or environmental factors that could be affected by the proposed Project were evaluated in detail in the EIS. These issues are summarized in Table ES-1: “Summary of Potential Impacts of South Dakota PrairieWinds Project,” of the EIS.

Based on an evaluation of the information and impact analyses presented in the EIS, including the evaluation of all alternatives, and in consideration of the Agency's NEPA implementing regulations, Environmental Policies and Procedures, as amended (7 CFR Part 1794), RUS finds that the evaluation of reasonable alternatives is consistent with NEPA. The Agency has selected the Action Alternative at Crow Lake site as its preferred alternative. This Notice concludes RUS's compliance with NEPA and the Agency's “Environmental Policies and Procedures.”

Dated: September 29, 2010.
James R. Newby,
Acting Administrator, Rural Utilities Service.

[FR Doc. 2010-24993 Filed 10-4-10; 8:45 am]

BILLING CODE P